DEPARTMENT OF THE INTERIOR

National Park Service

[NPS-WASO-NRNHL-21915; PPWOCRADI0, PCU00RP14.R50000]

National Register of Historic Places; Notification of Pending Nominations and Related Actions

AGENCY: National Park Service, Interior.

ACTION: Notice.

SUMMARY: The National Park Service is soliciting comments on the significance of properties nominated before September 2, 2016, for listing or related actions in the National Register of Historic Places.

DATES: Comments should be submitted by October 17, 2016.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before September 2, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ARIZONA

Maricopa County

Encanto—Palmcroft Historic District (Boundary Increase III), 2700 N. 15th Ave., Phoenix, 16000722

COLORADO

Denver County

U.S. Courthouse and Federal Office Building, 1929-1961 Stout St., Denver, 16000723

CONNECTICUT

Fairfield County

Hubbard Heights Historic District, Hubbard Ave. and vicinity, Stamford, 16000724

DELAWARE

Kent County

St. Paul A.M.E. Church, 103 W. Mispillion St., Harrington, 16000726

DISTRICT OF COLUMBIA

District of Columbia

Park Vista and Pine Manor Apartments, (Apartment Buildings in Washington, DC, MPS) 5807-5825 14th St. NW., Washington, 16000725

MISSOURI

Lawrence County

Coleman, Lewis Shaw, House, 227 E. College St., Aurora, 16000727

St. Charles County

Lindenwood Neighborhood Historic District, Roughly bounded by Watson, Gamble, Sibley & Elm Sts. & alley between Houston & N. Kings Highway, St. Charles, 16000728

MONTANA

Carbon County

Rock Creek Ranger Station Historic District, 6811 US 212, Red Lodge, 16000729

SOUTH CAROLINA

Greenville County

American Spinning Company Mill No. 2, 300 Hammett St., Greenville, 16000730

Spartanburg County

Pine Street Elementary School, 500 S. Pine St., Spartanburg, 16000731

WYOMING

Natrona County

Casper Downtown Historic District, Generally bounded by Midwest Ave., W.B. W.C., & Beech Sts., Casper, 16000732

Authority: 60.13 of 36 CFR part 60.

Dated: September 9, 2016.
Christopher Hetzel,
Acting Chief, National Register of Historic Places/National Historic Landmarks Program.

[FR Doc. 2016-23614 Filed 9-29-16; 8:45 am]

BILLING CODE 4312-52-P